DEPARTMENT OF THE INTERIOR

National Park Service

Notice of Inventory Completion: Bishop Museum, Honolulu, HI

AGENCY: National Park Service, Interior.

ACTION: Notice.

Notice is here given in accordance with the Native American Graves Protection and Repatriation Act (NAGPRA), 25 U.S.C. 3003, of the completion of an inventory of human remains in the possession and control of the Bishop Museum, Honolulu, HI. The human remains were removed from Brooks Island, Contra Costa County, CA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Bishop Museum professional staff in consultation with representatives of the the Santa Rosa Indian Community of the Santa Rosa Rancheria, California (Tachi Yokut Tribe).

On February 8, 1958, human remains representing a minimum of one individual were removed from Brooks Island, in San Pablo Bay, Contra Costa County, CA, most likely by A.C. Ziegler. The circumstances of the removal from Brooks Island are not known, but the remains were included in Dr. Ziegler's personal collections donated to the Bishop Museum after his death. The remains were housed in a box labeled “Homo Sapiens (infant)/sex?/Brooks Island, 5 ft, contra Costa County, California/picked up Feb 9, 1958/part skeleton only/1016 A.C. Ziegler.” No known individual was identified. No associated funerary objects are present.

The human remains were listed on the National Park Service Culturally Unidentified Inventory database, and Bishop Museum received information from the Santa Rosa Indian Community of the Santa Rosa Rancheria, California (Tachi Yokut Tribe) establishing their cultural affiliation to the remains through their historic and geographical connection to the Contra Costa County area.

Officials of the Bishop Museum have determined that, pursuant to 25 U.S.C. 3001(9), the human remains described above represent the physical remains of one individual of Native American ancestry. Officials of the Bishop Museum also have determined that, pursuant to 25 U.S.C. 3001(2), there is a relationship of shared group identity that can be reasonably traced between the Native American human remains and the Santa Rosa Indian Community of the Santa Rosa Rancheria, California (Tachi Yokut Tribe).

Representatives of any other Indian tribe that believes itself to be culturally affiliated with the human remains should contact Betty Lou Kam, Vice-President, Cultural Resources, Bishop Museum, 1525 Bernice St., Honolulu, HI 96817, telephone (808) 848-4144, before June 3, 2010. Repatriation of the human remains to the Santa Rosa Indian Community of the Santa Rosa Rancheria, California (Tachi Yokut Tribe) may proceed after that date if no additional claimants come forward.

The Bishop Museum is responsible for notifying the Santa Rosa Indian Community of the Santa Rosa Rancheria, California (Tachi Yokut Tribe) that this notice has been published.

Dated: April 6, 2010.
Sherry Hutt,
Manager, National NAGPRA Program.

[FR Doc. 2010-10366 Filed 5-3-10; 8:45 am]

BILLING CODE 4312-50-S